DEPARTMENT OF COMMERCE

International Trade Administration

[Docket No. 00061475-0175-01]

RIN 0607-XX24

International Buyer Program; Support for Domestic Trade Shows

AGENCY: International Trade Administration, Commerce.

ACTION: Notice and call for applications for the FY 2002 International Buyer Program (October 1, 2001 through September 30, 2002).

SUMMARY: This notice sets forth objectives, procedures and application review criteria associated with the U.S. Department of Commerce's International Buyer Program (IBP), to support domestic trade shows. Selection is for the International Buyer Program for Fiscal Year 2002 (October 1, 2001 through September 30, 2002).

The International Buyer Program was established to bring international buyers together with U.S. firms by promoting leading U.S. trade shows in industries with high export potential. The International Buyer Program emphasizes cooperation between the U.S. Department of Commerce (DOC) and trade show organizers to benefit U.S. firms exhibiting at selected events and provides practical, hands-on assistance such as export counseling and market analysis to U.S. companies interested in exporting. The assistance provided to show organizers includes worldwide overseas promotion of selected shows to potential international buyers, end-users, representatives and distributors. The worldwide promotion is executed through the offices of the United States and Foreign Commercial Service (hereinafter referred to as the Commercial Service) in 74 countries representing America's major trading partners, and also in U.S. Embassies in countries where the Commercial Service does not maintain offices. The Department expects to select approximately 28 shows for FY2002 from among applicants to the program. Shows selected for the International Buyer Program will provide a venue for U.S. companies interested in expanding their sales into international markets. Successful applicants will be required to enter into a Memorandum of Understanding (MOU) that sets forth the specific actions to be performed by the show organizer and the DOC. The MOU constitutes an agreement between the DOC and the show organizer specifying which services are to be rendered by DOC as part of the IBP and, in turn, what responsibilities are agreed to be performed by the show organizer. Anyone wishing to apply will be sent a copy of the MOU along with the application package. The services to be rendered by DOC will be carried out by the Commercial Service.

DATES: Applications must be received by August 11, 2000. Contributions are for shows selected and promoted during the October 1, 2001 and September 30, 2002, period.

ADDRESSES: Export Promotion Services/International Buyer Program, Commercial Service, International Trade Administration, U.S. Department of Commerce, 14th & Constitution Avenue, NW., H2116, Washington, DC 20230. Telephone: (202) 482-0146 (For deadline purposes, facsimile or email applications will be accepted as interim applications, to be followed by signed original applications).

FOR FURTHER INFORMATION CONTACT: Jim Boney, Product Manager, International Buyer Program, Room 2116, Export Promotion Services, U.S. and Foreign Commercial Service, International Trade Administration, U.S. Department of Commerce, 14th & Constitution Avenue, NW., Washington, DC 20230. Telephone (202) 482-0146; Fax: (202) 482-0115; Email: Jim.Boney@mail.doc.gov.

SUPPLEMENTARY INFORMATION: The Commercial Service is accepting applications for the International Buyer Program (IBP) for events taking place between October 1, 2001 and September 30, 2002. A contribution of $6,000 for shows of five days or less is required. Shows more than five days in duration, or requiring more than one International Business Center, a contribution of $8,000 is required.

Under the IBP, the Commercial Service seeks to bring together international buyers with U.S. firms by selecting and promoting in international markets domestic trade shows in industries with high export potential. Selection of a trade show is one-time, i.e., a trade show organizer seeking selection for a recurring event must submit a new application for selection for each occurrence of the event. If the event occurs more than once in the 12-month period covering this announcement, the trade show organizer must submit a separate application for each event.

The Commercial Service will select approximately 28 events to support between October 1, 2001, through September 30, 2002. The Commercial Service will select those events that, in its judgment, most clearly meet the Commercial Service's objective and selection criteria mentioned below.

The Department selects events which it determines to be a leading international trade show appropriate for participation by U.S. exporting firms and promotion in overseas markets by U.S. Embassies and Consulates. Selection does not constitute a guarantee by the U.S. Government of the show's success. Selection is not an endorsement of the show organizer except as to its international buyer activities. Non-selection should not be viewed as a finding that the event will not be successful in the promotion of U.S. exports.

Exclusions. Trade shows will not be considered that are either first-time or horizontal (non-industry specific) events. Annual trade shows will not be selected for this program more than twice in any three-year period (e.g., shows selected for fiscal years 2000 and 2001 are not eligible for inclusion in this program in fiscal year 2002, but can be considered in subsequent years).

Notwithstanding any other provision of law, no person is required to respond to nor shall a person be subject to a penalty for failure to comply with a collection of information subject to the requirements of the Paperwork Reduction Act unless that collection of information displays a currently valid OMB Control Number.

The Office of Management and Budget has approved the information collection requirements of the application to this program under the provisions of the Paperwork Reduction Act of 1980 (44 U.S.C. 2501 et seq.) (OMB control no. 0625-0151).

General Selection Criteria

Those events will be selected that, in the judgment of the Department, most clearly meet the following criteria:

(a) Export Potential: The products and services to be promoted at the trade show are from U.S. industries that have high export potential, as determined by U.S. Department of Commerce sources, i.e., best prospects lists and U.S. export statistics (certain industries are rated as priorities by our domestic and international commercial officers in their Country Commercial Guides).

(b) International Interest: The trade show meets the needs of a significant number of overseas markets and corresponds to marketing opportunities as identified by the posts in their Country Commercial Guides (e.g. best prospect lists). Previous international attendance at the show may be used as an indicator.

(c) Scope of the Show: The trade show offers a broad spectrum of U.S.-made products and/or services for the subject industry. Trade shows with a majority of United States businesses, as defined in 15 U.S.C. 4724, will be given preference.

(d) Stature of the show: The trade show is clearly recognized by the industry it covers as a leading event for the promotion of that industry's products and services both domestically and internationally and as a showplace for the latest technology or services in that industry or sector.

(e) Exhibitor Interest: There is demonstrated interest on the part of U.S. exhibitors in receiving international business visitors during the trade show. A significant number of these exhibitors should be new-to-export or seeking to expand sales into additional international markets.

(f) Overseas Marketing: There has been demonstrated effort made to market prior shows overseas. In addition, the applicant should describe in detail the international marketing program to be conducted for the event, explaining how efforts should increase individual and group international attendance.

(g) Logistics: The trade show site, facilities, transportation services and availability of accommodations are in the stature of an international-class trade show.

(h) Cooperation: The applicant demonstrates a willingness to cooperate with the Commercial Service of the United States of America to fulfill the program's goals and to adhere to target dates set out in the Memorandum of Understanding and the even timetable, both of which are available from the program office (see For Further Information on When, Where, and How to apply). Past experience in the IBP will be taken into account in evaluating current applications to the program.

Legal Authority: The Commercial Service has the legal authority to enter into the above-mentioned memorandum of understanding with the show organizer under the provisions of the Mutual Educational and Cultural Exchange Act of 1961, as amended (22 U.S.C. 2455(f)). The statutory authority for the Commercial Service to conduct the International Buyer Program is 15 U.S.C. 4724.

John Klingelhut,
Director, Office of Public/Private Initiatives, U.S. and Foreign Commercial Service, International Trade Administration, U.S. Department of Commerce.

[FR Doc. 00-16188 Filed 6-26-00; 8:45 am]

BILLING CODE 3510-FP-M